DEPARTMENT OF STATE

[Public Notice: 12814]

Specially Designated Global Terrorist Designations of Los Choneros and Los Lobos

Acting under the authority of and in accordance with section 1(a)(ii)(A) of Executive Order 13224, as amended (“E.O. 13224” or “Order”), I hereby determine that the persons known as Los Choneros (also known as The Choneros, Aguilas, Fatales); and Los Lobos (also known as The Lobos, Los Lobos Drug Trafficking Organization) are foreign persons who have committed or have attempted to commit, pose a significant risk of committing, or have participated in training to commit acts of terrorism that threaten the security of U.S. nationals or the national security, foreign policy, or economy of the United States.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This determination shall be published in the Federal Register.

Dated: August 6, 2025.
Marco Rubio,
Secretary of State.

[FR Doc. 2025-17074 Filed 9-4-25; 8:45 am]

BILLING CODE 4710-AD-P